NATIONAL AERONAUTICS AND SPACE ADMINISTRATION

[Notice: (11-019)]

NASA Advisory Council; Science Committee; Planetary Science Subcommittee; Meeting

AGENCY: National Aeronautics and Space Administration.

ACTION: Notice of meeting.

SUMMARY: In accordance with the Federal Advisory Committee Act, Public Law 92-463, as amended, the National Aeronautics and Space Administration announces a meeting of the Planetary Science Subcommittee of the NASA Advisory Council (NAC). This Subcommittee reports to the Science Committee of the NAC. The Meeting will be held for the purpose of soliciting from the scientific community and other persons scientific and technical information relevant to program planning.

DATES: Wednesday, March 16, 2011, 2 p.m. to 3 p.m., Local Time.

ADDRESSES: This meeting will take place telephonically and by WebEx. Any interested person may call the USA toll free conference call number 888-972-6899, pass code PSS, to participate in this meeting by telephone. The WebEx link is https://nasa.webex.com/, meeting number 997 494 870, and password PSS_Mar16.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Discussion and Formulation of the Planetary Science Division's Response to the NRC Planetary Decadal Survey Report.

It is imperative that the meeting be held on this date to accommodate the scheduling priorities of the key participants.

Dated: February 17, 2011.
P. Diane Rausch,
Advisory Committee Management Officer, National Aeronautics and Space Administration and Space Administration.

[FR Doc. 2011-4193 Filed 2-24-11; 8:45 am]

BILLING CODE P